DEPARTMENT OF THE INTERIOR

Bureau of Land Management

[LLAK920000-L14200000-BK0000]

Notice of Filing of Plats of Survey, Alaska

AGENCY: Bureau of Land Management, Interior.

ACTION: Notice.

SUMMARY: Notice of Filing of Plats of Survey, Alaska.

DATES: The Alaska State Office, Bureau of Land Management, Anchorage, Alaska, must receive comments on or before November 29, 2010. Protests of the survey must be filed before November 29, 2010 to be considered.

ADDRESSES: Bureau of Land Management, Alaska State Office, 222 W. 7th Ave., Anchorage, AK 99513-7599.

FOR FURTHER INFORMATION CONTACT: Frank A. Hardt, 907-271-3182, fax 907-271-4549, e-mail frank_hardt@blm.gov.

SUPPLEMENTARY INFORMATION: The plat and field notes, representing the dependent resurvey and subdivision of a portion of U.S. Survey No. 1170, Alaska Railroad Terminal Reserve, and the dependent resurvey of Tract A, U.S. Survey No. 3458, the dependent resurvey of portions of numerous U.S. Surveys lying within or adjacent to U.S. Survey No. 1170, the survey of portions of three quit claim deeds, the survey of the Alaska Railroad Tidelands identified in the Agreement of the Parties in United States v. City of Anchorage, et al., Civil No. A-47-65, situated in the Municipality of Anchorage within T. 13 N., Rs. 3 and 4 W., Seward Meridian, Alaska, was accepted October 15, 2010.

The plat, in 4 sheets, representing the dependent resurvey and subdivision of certain lots within U.S. Surveys No. 1991 and 1992, the Exterior Boundaries and Subdivision, respectively, of the Unalaska Townsite, situated along Iliuliuk Bay in the City of Unalaska, Seward Meridian, Alaska, was accepted October 15, 2010.

The plat will not be officially filed until the day after BLM has accepted or dismissed all protests and they have become final, including decisions on appeals.

Before including your address, phone number, e-mail address, or other personal identifying information in your comment, you should be aware that your entire comment—including your personal identifying information—may be made publicly available at any time. While you can ask us in your comment to withhold your personal identifying information from public review, we cannot guarantee that we will be able to do so.

Authority: Title VI of Pub. L. 97-468 (96 Stat. 2556; 25 U.S.C. 176).

Dated: October 22, 2010.
Frank A. Hardt,
Cadastral Land Surveyor.

[FR Doc. 2010-27335 Filed 10-28-10; 8:45 am]

BILLING CODE 4310-JA-P